DEPARTMENT OF ENERGY

Federal Energy Regulatory Commission

[Docket No. EC03-2-000, et al.]

WPS Empire State, Inc., et al.; Electric Rate and Corporate Regulation Filings

October 22, 2002.

The following filings have been made with the Commission. The filings are listed in ascending order within each docket classification.

1. WPS Empire State, Inc

[Docket No. EC03-2-000]

Take notice that on October 17, 2002, WPS Empire State, Inc. (Empire) tendered for filing with the Federal Energy Regulatory Commission (Commission) pursuant to Section 203 of the Federal Power Act and Part 33 of the Commission's regulations, a request for authorization to engage in an internal restructuring whereby Empire transfers its ownership interest in three generating and associated facilities to three limited liability companies that will be wholly-owned by Empire

Copies of the filing were served on the New York Public Service Commission.

Comment Date: November 7, 2002.

2. New England Power Company and Central Vermont Public Service Corporation

[Docket No. EC03-3-000]

Take notice that on October 18, 2002, New England Power Company (NEP) and Central Vermont Public Service Corporation (CVPS) filed with the Federal Energy Regulatory Commission (Commission) an application pursuant to Section 203 of the Federal Power Act for authorization to transfer from NEP to CVPS the ownership of a section of a 0.8 mile long 34.5 kV transmission line associated with electric service provided to American Paper Mills of Vermont, Inc. located in Gilman, Vermont.

Comment Date: November 8, 2002.

3. WPS Beaver Falls Generation, LLC, WPS Niagara Generation, LLC, and WPS Syracuse Generation, LLC

[Docket Nos. EG03-5-000, EG03-6-000, and EG03-7-000]

Take notice that on October 17, 2002, WPS Beaver Falls Generation, LLC (WPS Beaver Falls) WPS Niagara Generation, LLC (WPS Niagara ) and WPS Syracuse Generation, LLC (WPS Syracuse) each having a business address of 1088 Springhurst Toad, Green Bay, Wisconsin, 54304, tendered for filing with the Federal Energy Regulatory Commission (Commission), an Application for Determination of Exempt Wholesale Generator Status pursuant to part 365 of the Commission's Regulations (18 CFR part 365).

Applicants are each wholly-owned subsidiaries of WPS Empire State, Inc. (WPS Empire), a New York corporation and exempt wholesale generator which owns three generating facilities located in upstate New York: (1) The approximately 95 MW Beaver Falls Generating Facility located in Crogham (Beaver Falls Facility); (2) the approximately 53 MW Niagara Falls Generating Facility located in Niagara Falls (Niagara Facility); (3) and the approximately 108 MW Syracuse Generating Facility located in Solvay (Syracuse Facility). As part of an internal corporate reorganization, WPS Empire will transfer the Beaver Falls Facility to Applicant WPS Beaver Falls Generation, LLC, the Niagara Facility to WPS Niagara Generation, LLC, and the Syracuse Facility to WPS Syracuse Generation, LLC. No operational changes are anticipated as a result of these transactions.

Comment Date: November 12, 2002.

4. FPL Energy Hancock County Wind, LLC

[Docket No. EG03-8-000]

Take notice that on October 18, 2002, FPL Energy Hancock County Wind, LLC (the Applicant), with its principal office at 700 Universe Blvd., Juno Beach, Florida 33408, filed with the Federal Energy Regulatory Commission (the Commission) an application for determination of exempt wholesale generator status pursuant to Part 365 of the Commission's regulations.

Applicant states that it is a Delaware limited liability company engaged directly and exclusively in the business of owning and operating an approximately 98 MW wind-powered generation facility located in Hancock County, Iowa. Electric energy produced by the facility will be sold at wholesale.

Comment Date: November 12, 2002.

5. Arizona Public Service Company v. Idaho Power Company

[Docket No. EL99-44-007]

Take notice that on October 10, 2002, Idaho Power Company tendered for filing with the Federal Energy Regulatory Commission (Commission) compliance filing pursuant to the Commission's September 5, 2002 Order, Opinion No. 460, 100 FERC ¶ 61,253 (2002).

Comment Date: November 12, 2002.

6. City of Azusa, California

[Docket No. EL03-14-000]

Take notice that on October 18, 2002, the City of Azusa, California (Azusa) submitted a Petition for a Declaratory Order (1) determining that Azusa's proffered Transmission Revenue Requirement (TRR) is appropriate under the California Independent System Operator Corporation's Tariff on file at the Commission for purposes of Azusa's becoming a Participating Transmission Owner; (2) approving Azusa's Transmission Owner (TO) Tariff; (3) waiving the filing fee otherwise applicable to a petition for declaratory order; and (4) granting any other relief or waivers necessary or appropriate for approval or implementation of Azusa's TRR and TO Tariff effective as of the later of January 1, 2003 or the effective date of a Transmission Control Agreement acceptable to Azusa.

Comment Date: November 18, 2002.

7. City of Anaheim, California

[Docket No. EL03-15-000]

Take notice that on October 18, 2002, the City of Anaheim, California (Anaheim) tendered for filing with the Federal Energy Regulatory Commission (Commission) a Petition for a Declaratory Order (1) determining that Anaheim's proffered Transmission Revenue Requirement (TRR) is appropriate under the California Independent System Operator Corporation's Tariff on file at the Commission for purposes of Anaheim's becoming a Participating Transmission Owner; (2) approving Anaheim's Transmission Owner (TO) Tariff; (3) waiving the filing fee otherwise applicable to a petition for declaratory order; and (4) granting any other relief or waivers necessary or appropriate for approval or implementation of Anaheim's TRR and TO Tariff effective as of the later of January 1, 2003 or the effective date of a Transmission Control Agreement acceptable to Anaheim.

Comment Date: November 18, 2002.

8. PPL Electric Utilities Corporation

[Docket No. EL03-16-000]

Take notice that on October 18, 2002, PPL Electric Utilities Corporation filed with the Federal Energy Regulatory Commission (Commission) a petition requesting that the Commission issue a declaratory order stating that, in the event that the Borough of Olyphant, Pennsylvania, takes over service to certain PPL's existing retail customers, neither the Settlement Agreement approved in Boroughs of Lansdale, et al., Docket No. SC97-1-000, nor the Commission order approving that Agreement, would affect the existing retail stranded cost charges that such customers would be required to continue paying pursuant to orders of the Pennsylvania Public Utility Commission.

Comment Date: November 18, 2002.

9. Choctaw Generation Limited Partnership

[Docket No. ER98-3774-001]

Take notice that on October 17, 2002, Choctaw Generation Limited Partnership tendered for filing its Triennial Market Power Update.

Comment Date: November 7, 2002.

10. Dighton Power Associates, L.P.

[Docket No. ER99-616-001]

Take notice that on October 18, 2002, Dighton Power Associates, L.P. submitted for filing its triennial market analysis update in compliance with the Commission order issued in this docket on January 7, 1999.

Comment Date: November 8, 2002.

11. WPS Westwood Generation, LLC

[Docket No. ER02-2361-001]

Take notice that on October 17, 2002, WPS Westwood Generation, LLC (Westwood) filed supplementary cost support to its July 24, 2002 filing for recovery of the costs for Reactive Supply and Voltage Control from Generation Sources Service (Reactive Power Service) in response to the Commission's September 20, 2002 deficiency letter in this proceeding.

Comment Date: November 7, 2002.

12. Virginia Electric and Power Company

[Docket No. ER02-2485-001]

Take notice that on October 17, 2002, Virginia Electric and Power Company, doing business as Dominion Virginia Power, tendered for filing a revised first page of its August 21, 2002 transmittal letter filed in these proceedings (Revised First Page) and a revised cover sheet (Revised Cover Sheet) to the Generator Interconnection and Operating Agreement (Interconnection Agreement) between Dominion Virginia Power and CPV Cunningham Creek LLC filed in these proceedings. The Revised First Page and Revised Cover Sheet have been modified to reflect a new proposed effective date in compliance with an informal Commission Staff request.

Dominion Virginia Power respectfully requests that the Commission accept the Revised First Page and the Revised Cover Sheet to the Interconnection Agreement to allow them to become effective on August 20, 2002.

Copies of the filing were served upon parties on the Commission's official service list and the Virginia State Corporation Commission.

Comment Date: November 7, 2002.

13. American Electric Power

[Docket No. ER02-2507-001]

Take notice that on October 17, 2002, American Electric Power Service Corporation (AEPSC) tendered for filing with the Commission a Compliance Filing in the above referenced Docket. On August 28, 2002 AEPSC had filed a Facilities, Operation and Maintenance Agreement (Facility Agreement) dated August 1, 2002, between Columbus Southern Power Company (d/b/a AEP), Consolidated Electric Cooperative, Inc. (hereinafter called CEC) and Buckeye Power, Inc. (hereinafter called Buckeye).

The Facility Agreement provides for the establishment of a new delivery point, pursuant to the provisions of the Power Delivery Agreement between Columbus Southern Power, Buckeye, The Cincinnati Gas & Electric Company, The Dayton Power and Light Company, Monongahela Power Company, Ohio Power Company and Toledo Edison Company, dated January 1, 1968. AEP requested an effective date of October 1, 2002 for the Facility Agreement.

On October 2, 2002 the Commission issued an Order directing AEPSC to correct certain deficiencies in the August 28, 2002 submission. This subsequent filing complies with the Commission's Order of October 2, 2002.

AEPSC states that copies of its Compliance Filing were served upon CEC, Buckeye and the Public Utilities Commission of Ohio.

Comment Date: November 8, 2002.

14. CED Rock Springs, Inc.

[Docket No. ER02-2546-001]

Take notice that on October 18, 2002, CED Rock Springs, Inc. (CEDRS) tendered for filing an Amendment to its Application dated September 6, 2002, which sought an Order accepting CEDRS's FERC Electric Rate Schedule No. 1, granting certain blanket approvals, including the authority to sell electricity at market-base rates, and waiving certain regulations of the Commission. CEDRS also filed its FERC Electric Rate Schedule No. 1, seeking an effective date of October 10, 2002.

Comment Date: November 8, 2002.

15. AES NewEnergy, Inc.,

[Docket No. ER02-2567-001]

Take notice on October 18, 2002, Constellation NewEnergy, Inc. (NewEnergy) submitted for filing a revised market-based tariff (Tariff) reflecting its name change from AES NewEnergy, Inc. to Constellation NewEnergy, Inc., and the elimination of its Code of Conduct with Central Illinois Light Co. and Indianapolis Power & Light Company, which is no longer applicable. NewEnergy requests waiver of the 60-day prior notice requirement to allow its revised Tariff to become effective as of September 9, 2002.

Comment Date: November 8, 2002.

16. MidAmerican Energy Company

[Docket No. ER02-2603-001]

Take notice that on October 18, 2002, MidAmerican Energy Company (MidAmerican), filed with the Federal Energy Regulatory Commission (Commission) a supplement to its September 26, 2002, filing in this docket, consisting of a red-lined version of the Generation Interconnection Contract (Contract), entered into by MidAmerican, as transmission and distribution delivery services provider (Delivery), and MidAmerican, as wholesale merchant (Merchant). The supplement consists of a red-lined version of the Contract, showing revisions to Exhibits A and B, and the addition of Exhibit F.

MidAmerican requests an effective date of May 1, 2002, for the Revised Contract and seeks a waiver of the Commission's notice requirement. MidAmerican has served a copy of the filing on the Iowa Utilities Board, the Illinois Commerce Commission and the South Dakota Public Utilities Commission.

Comment Date: November 8, 2002.

17. Wisconsin Public Service Corporation

[Docket No. ER03-29-000]

Take notice that on October 10, 2002, Wisconsin Public Service Corporation (WPSC) tendered for filing a revised partial requirements service agreement with Washington Island (WIEC). Fourth Revised Service Agreement No. 9 provides WIEC's contract demand nominations for January 2003—December 2007, under WPSC's W-2A partial requirements tariff.

The company states that copies of this filing have been served upon WIEC and to the State Commissions where WPSC serves at retail.

Comment Date: November 4, 2002.

18. Westar Energy, Inc.

[Docket No. ER03-50-000]

Take notice that on October 17, 2002, pursuant to Rule 204 of the Federal Energy Regulatory Commission's (Commission) Rules of Practice and Procedure, 18 CFR 385.204, Westar Energy, Inc. (Westar Energy), tendered for filing an Application for Waiver of the Commission's FAC regulations, 18 CFR 35.14(a)(6). Westar Energy states that the waiver is necessary to enable it to recover its costs related to coal contract buy-down and buy-out payments through its wholesale fuel adjustment clause (FAC).

Comment Date: November 7, 2002.

19. Southern California Edison Company

[Docket No. ER03-52-000]

Take notice that on October 17, 2002, Southern California Edison Company (SCE) tendered for filing a Service Agreement for Wholesale Distribution Service under SCE's Wholesale Distribution Access Tariff and an Interconnection Facilities Agreement (Agreements) between SCE and NM Milliken Genco LLC (NM Milliken Genco). SCE respectfully requests the Agreements become effective on October 18, 2002.

NM Milliken Genco intends to install, own and operate four 1,440 kW reciprocating engines operating on landfill gas (Milliken Landfill Project) at the Milliken Landfill located in Ontario, California. These Agreements specify the terms and conditions under which SCE will interconnect NM Milliken Genco's Milliken Landfill Project to its electrical system and provide Distribution Service for up to 5.44 MW of power produced Milliken Landfill Project.

Copies of this filing were served upon the Public Utilities Commission of the State of California and NM Milliken Genco.

Comment Date: November 7, 2002.

20. Southern California Edison Company

[Docket No. ER03-53-000]

Take notice that on October 17, 2002, Southern California Edison Company (SCE) tendered for filing a Service Agreement for Wholesale Distribution Service under SCE's Wholesale Distribution Access Tariff and an Interconnection Facilities Agreement (Agreements) between SCE and NM Mid Valley Genco LLC (NM Mid Valley Genco). SCE respectfully requests the Agreements become effective on October 18, 2002.

NM Mid Valley Genco intends to install, own and operate three 1,440 kW reciprocating engines operating on landfill gas (Mid Valley Landfill Project) at the Mid Valley Landfill located in Rialto, California. These Agreements specify the terms and conditions under which SCE will interconnect NM Mid Valley Genco's Mid Valley Landfill Project to its electrical system and provide Distribution Service for up to 4.08 MW of power produced Mid Valley Landfill Project.

Copies of this filing were served upon the Public Utilities Commission of the State of California and NM Mid Valley Genco.

Comment Date: November 7, 2002.

21. WPS Beaver Falls Generation, LLC, WPS Niagara Generation, LLC, and WPS Syracuse Generation, LLC

[Docket Nos. ER03-54-000, ER03-55-000, and ER03-56-000]

Take notice that on October 17, 2002, WPS Empire State, Inc. (Empire) and its proposed subsidiaries, including WPS Beaver Falls Generation, LLC (WPS Beaver Falls), WPS Niagara Generation, LLC (WPS Niagara) and WPS Syracuse Generation, LLC (WPS Syracuse) (collectively, the Companies), hereby tendered for filing requests for market-based rate authority for each of the Companies. Applicants request that the Commission make the market-based rate tariffs filed for the Companies effective on December 17, 2002, sixty days after the date of this filing.

Comment Date: November 7, 2002.

22. Southern Company Services, Inc.

[Docket No. ER03-57-000]

Take notice that on October 17, 2002, Southern Company Services, Inc. (SCS), acting on behalf of Alabama Power Company (APC), filed an amendment (the Amendment) to the Interconnection Agreement Between mobile Energy Services Company, L.L.C. and APC (the Agreement) (Service Agreement No. 416 under Southern Operating Companies' FERC Electric Tariff, Fourth Revised Volume No. 5). Pursuant to the Amendment, the term of the Agreement will be extended until November 18, 2002.

Comment Date: November 7, 2002.

23. Cinergy Services, Inc.

[Docket No. ER03-58-000]

Take notice that on October 18, 2002. Cinergy Services, Inc. (Cinergy), tendered for filing a form of service agreement for ancillary services to be incorporated into the Cinergy Open Access Transmission Tariff (OATT), Second Revised, Volume No. 5, and contemporaneously submitted for filing an executed electric service agreement for ancillary services, designated as Service Agreement No. 344 under the Cinergy OATT between Cinergy and Midwest Independent System Operator (MISO). Cinergy respectfully requests an effective date November 1, 2002.

Copies of the filing have been served on MISO, the Public Utility Commission of Ohio, the Indiana Utility Regulatory Commission and ancillary service customers under the Cinergy OATT.

Comment Date: November 8, 2002.

24. Entergy Services, Inc.

[Docket No. ER03-59-000]

Take notice that on October 17, 2002, Entergy Services, Inc., on behalf of Entergy New Orleans, Inc., tendered for filing an unexecuted Interconnection and Operating Agreement with Duke Energy Orleans, LLC (Duke Orleans), and a Generator Imbalance Agreement with Duke Orleans.

Comment Date: November 7, 2002.

25. Deseret Generation & Transmission Co-operative, Inc.

[Docket No. ER03-60-000]

Take notice that on October 15, 2002, Desert Generation & Transmission Co-operative, Inc. Submitted an informational filing, providing the exact amount paid as a 2001 Rate Rebate to each of its six member cooperatives under Service Agreement Nos. 1 through 6 of FERC Electric Tariff, Original Volume No. 1.

Comment Date: November 5, 2002.

26. Ameren Services Company

[Docket No.ER03-61-000]

Take notice that on October 18, 2002, Ameren Services Company (ASC) tendered for filing Service Agreements for Firm Point-to-Point Transmission Service and Non-Firm Point-to-Point Transmission Service between ASC and Dominion Energy Marketing, Inc., PLL EnergyPlus, LLC, RWE Trading Americas Inc. and Select Energy, Inc. (the parties). ASC asserts that the purpose of the Agreements is to permit ASC to provide transmission service to the parties pursuant to Ameren's Open Access Transmission Tariff.

Comment Date: November 8, 2002.

27. The New Power Company

[Docket No. ER03-62-000]

Take notice that on October 18, 2002, The New Power Company (NewPower) tendered for filing a Notice of Cancellation of its Rate Schedule, Designated as Rate Schedule FERC No. 1. New Power requests cancellation effective January 31, 2003, which is more than sixty (60) days and less than 120 days after the date of this filing.

Comment Date: November 8, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-27657 Filed 10-29-02; 8:45 am]

BILLING CODE 6717-01-P